DEPARTMENT OF TRANSPORTATION

Surface Transportation Board

49 CFR Part 1011

[Docket No. EP 709]

Policy Statement on Grant Stamp Procedure in Routine Director Orders

AGENCY: Surface Transportation Board, DOT.

ACTION: Statement of Board Policy.

SUMMARY: The Surface Transportation Board (STB or Board) is issuing this policy statement to inform the public that, beginning on December 15, 2011, the Board will implement a grant stamp procedure for certain decisions issued by the Director of the Office of Proceedings (Director). The grant stamp will be used for decisions in uncontested, routine procedural matters delegated to the Director when no further explanation or discussion is necessary. This procedure is designed to better serve the public, to streamline Board processes, and to remove uncertainty.

DATES: Effective Date: This policy statement is effective on December 15, 2011.

FOR FURTHER INFORMATION CONTACT: Amy C. Ziehm, (202) 245-0391. Assistance for the hearing impaired is available through the Federal Information Relay Service (FIRS) at 1-(800) 877-8339.

SUPPLEMENTARY INFORMATION:

In this Policy Statement, the Board informs the public that, beginning December 15, 2011, a grant stamp procedure will be used for certain Director Orders.¹ This Policy Statement explains the limited purpose and intended use of the grant stamp.

¹ At this time, this policy will apply only to decisions of the Director of the Office of Proceedings, not to decisions of other Office Directors or other Board employees.

Pursuant to 49 CFR 1011.6 and 1011.7, the STB and the Chairman of the STB have delegated to the Director authority to issue decisions addressing many routine procedural matters in proceedings before the Board. In many of these decisions, all parties to the proceeding concur in the relief sought and very little, if anything, in the way of further discussion is required by the Director. Therefore, the Director will begin using the grant stamp procedure in these routine, unopposed matters. For example, the Director could grant with a grant stamp unopposed motions for an extension of time or requests for a procedural schedule to which all parties have consented.

The procedure will be as follows: The Director will affix the grant stamp to the pleading that is filed with the Board. The stamp will be in a format similar to the sample shown in the Appendix to this decision. It will contain information such as the agency seal, the decided date, the service date, a decision identification number, and a signature line for the Director. The stamp will also have an area for any notation that needs to be made regarding the decision. The stamp will not include the docket number, as that information should already be included on the pleading. The pleading with the stamp affixed will be served as a Director Order.

The purpose of initiating a grant stamp procedure is to increase the efficiency with which the Director can issue these decisions. Use of a grant stamp would eliminate the time it takes to draft a decision and would allow for quicker responses to stakeholders, thereby removing the uncertainty that Board stakeholders might encounter as they wait for the Board to draft and serve these Director Orders. This procedure will allow for more efficient use of Board resources.

This action will not significantly affect either the quality of the human environment or the conservation of energy resources.

Decided: November 7, 2011.
By the Board, Chairman Elliott, Vice Chairman Begeman, and Commissioner Mulvey.
Jeffrey Herzig,
Clearance Clerk.

Appendix

[FR Doc. 2011-29348 Filed 11-14-11; 8:45 am]

BILLING CODE 4915-01-P